DEPARTMENT OF THE INTERIOR

National Park Service

Notice of Minor Boundary Revision

SUMMARY: This notice announces a minor boundary revision to add approximately 0.181 of an acre of land at the Dayton Aviation Heritage National Historical Park, Dayton, Ohio. The National Park Service has determined this boundary revision is necessary to facilitate preservation of the historically important Wright Brothers Print Shop Building, adjacent Aviation Trail Building, and maintain an overall cost-savings for the renovation projects proposed at the Dayton Aviation Heritage National Historical Park. This boundary revision will contribute to the proper care and management of the Dayton Aviation Heritage National Historical Park, and protect the immediate environment of the park unit for the benefit and enjoyment of present and future generations.

Public Notice. This minor boundary revision was published for public comments in the Dayton Daily News on August 16, 23, and 30. The forty-five day public comment period ended October 14, 1999. No public comments were received in response to this publication.

FOR FURTHER INFORMATION CONTACT: Superintendent, Dayton Aviation Heritage National Historic Park, P.O. Box 9280, Dayton, Ohio 45409 (UPS or Federal Express address—c/o Wright Cycle Company, 22 South Williams Street, Dayton, Ohio 45407), or by telephone (937) 225-7705.

SUPPLEMENTARY INFORMATION: 16 U.S.C. 4601-9(c) authorizes the Secretary of the Interior to make this boundary revision. Notice is hereby provided that the boundary of Dayton Aviation Heritage National Historical Park is revised, effective as of the date of this notice, to include approximately 0.18 of an acre of land of privately owned land, and 0.01 of an acre of land of publicly owned land within the Dayton Aviation Heritage National Historical Park located in Montgomery County, Ohio. The legal description of these tracts of lands are as follows:

TRACT 101-08—containing an area of 0.18 of an acre, more or less, situated in the City of Dayton, County of Montgomery, State of Ohio, and being part of Lot Number 6316 of the Revised and Consecutive Lot Numbers of the City of Dayton and being more particularly described as follows:

Beginning at a cut cross set at the Southwest Corner of said Lot Number 6315 also being the intersection of the east right-of-way line of South Williams Street (60.0 feet wide) and the north right-of-way line of Sanford Court (16.5 feet wide); Thence, North 72° 37′ 54″ East, along the south boundary of said Lot 6315 Tract 2, a distance of 97.46 feet to the point of beginning, also being the southeast corner; Thence North 16° 52′ 59″ West, along the eastern boundary of Lot 6315 Tract 2, a distance of 90.48 feet; Thence North 16° 52′ 59″ West, along the eastern boundary of Lot 6315 Tract 2A. a distance of 72.53 feet; Thence North 72° 37′ 54″ East, along West Third Street, a distance of 48.15 feet; Thence South 17° 33′ 36″ East, a distance of 163.00 feet; Thence South 72° 37′ 54″ West, a distance of 50.07 feet, and the point of beginning; and

TRACT 101-09—containing an area of 0.001 of an acre, more or less, situated in the City of Dayton, County of Montgomery, State of Ohio, and being part of Sanford Court of the City of Dayton and being more particularly described as follows:

Beginning at a cut cross set at the Southwest Corner of said Lot Number 6315 also being the intersection of the east right-of-way line of South Williams Street (60.0 feet wide) and the north right-of-way line of Sanford Court (16.5 feet wide); Thence, North 72° 37′ 54″ East along the Northern right-of-way line of said Lot Number 6315, a distance of 97.46 feet to the point of beginning; Thence, North 72° 37′ 54″ East, a distance of 50.07 feet to an iron pin set; Thence, South 17° 33′ 36″ East, a distance of 8.25 feet to the centerline of Sanford Court; Thence, South 72° 37′ 54″ West, a distance of 50.07 feet to a point in the centerline of Sanford Court; Thence, North 16° 52′ 59″ West, a distance of 8.25 feet to an iron pin set, and the place of beginning.

The National Park Service has prepared a map bearing drawing number 362/80,009, dated July 19, 1999, which depicts the specific real property for inclusion within the historic park. Copies of this map are available at the following three locations: The Department of the Interior, National Park Service, Land Resources Division, 1849 “C” Street, NW, Room 2444, Washington, D.C. 20240; The National Park Service, Midwest Region Office, 1709 Jackson Street, Omaha, NE 68102; and Superintendent, Dayton Aviation Heritage National Historic Park, at the address given above.

Dated: November 24, 1999.
William W. Schenk,
Regional Director, Midwest Region.

[FR Doc. 00-16704 Filed 6-30-00; 8:45 am]

BILLING CODE 4310-70-M